COMMISSION ON CIVIL RIGHTS

Agenda and Notice of Public Meeting of the North Dakota Advisory Committee

Notice is hereby given, pursuant to the provisions of the rules and regulations of the U.S. Commission on Civil Rights, that a planning meeting with briefing of the North Dakota Advisory Committee to the Commission will convene at 1 p.m. and adjourn at 4:30 p.m. on Thursday, February 27, 2003, at the Best Western Doublewood Inn, 1400 E. Interchange, Bismarck, North Dakota 58501. The purpose of the planning meeting with briefing is to review recent development regarding the establishment of civil rights organizations across the State. Briefing will be provided by selected state and local government officials; also by civil rights organizational leaders.

Persons desiring additional information, or planning a presentation to the Committee, should contact, John Dulles, Director of the Rocky Mountain Regional Office, 303-866-1040 (TDD 303-866-1049). Hearing-impaired persons who will attend the meeting and require the services of a sign language interpreter should contact the Regional Office at least 10 working days before the scheduled date of the meeting.

The meeting will be conducted pursuant to the provisions of the rules and regulations of the Commission.

Dated in Washington, DC, February 5, 2003.
Ivy L. Davis,
Chief, Regional Programs Coordination Unit.

[FR Doc. 03-3410 Filed 2-10-03; 8:45 am]

BILLING CODE 6335-01-P